COMMITTEE FOR PURCHASE FROM PEOPLE WHO ARE BLIND OR SEVERELY DISABLED

Procurement List Addition and Deletions

AGENCY: Committee for Purchase From People Who Are Blind or Severely Disabled.

ACTION: Addition to and Deletions from the Procurement List.

SUMMARY: This action adds a service to the Procurement List that will be provided by the nonprofit agency employing persons who are blind or have other severe disabilities, and deletes products from the Procurement List previously furnished by such agency.

DATES: Effective Date: 10/27/2014.

ADDRESSES: Committee for Purchase From People Who Are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION:

Addition

On 6/6/2014 (79 FR 32716-32718), the Committee for Purchase From People Who Are Blind or Severely Disabled published notice of proposed addition to the Procurement List.

After consideration of the material presented to it concerning capability of qualified nonprofit agency to provide the service and impact of the addition on the current or most recent contractors, the Committee has determined that the service listed below is suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will provide the service to the Government.

2. The action will result in authorizing a small entity to provide the service to the Government.

3. There are no known regulatory alternatives which would accomplish the objectives of the Javits-Wagner-O'Day Act (41 U.S.C. 8501-8506) in connection with the service proposed for addition to the Procurement List.

End of Certification

Accordingly, the following service is added to the Procurement List:

Service:

Service Type/Location: Fleet Maintenance Service, U.S. Department of Energy, National Nuclear Security Administration, Agent Operations Eastern Command, Office of Secure Transportation, Transportation Safeguards Training Site, Fort Chaffee, AR, 11408 Roberts Blvd., Fort Smith, AR.

NPA: Skookum Educational Programs, Bremerton, WA

Contracting Activity: Department of Energy, National Nuclear Security Administration Business Services Division, Washington, DC.

Comments were received from two commercial contractors. One contractor wanted to ensure that the Commission had a clear understanding of the scope of work associated with this project so as not to put the government requirements or safety of employees at risk when performing the work. The contractor then summarized some tasks that it indicated required exposure to potentially hazardous situations and performance during possible inclement weather on a 24/7/365 basis. The Committee For Purchase From People Who Are Blind or Severely Disabled (Committee) appreciates the information provided in the comments and has considered it along with substantial additional information to ensure that the service is suitable for procurement by the government from a designated nonprofit agency employing people with significant disabilities.

Comments from the other contractor questioned whether the requirements of this project can be performed safely and efficiently by people with significant disabilities. The contractor, noting the type of work and the remote locations where it must be supported, stated that it appeared to be unsuitable for addition to the Procurement List. The contractor, as a veteran-owned small business was also anticipating the opportunity to bid on this work and stated that adding the service to the Procurement List would be unfair advantage to the nonprofit agency designated to perform the service.

In accordance with the Javits-Wagner-O'Day Act, the Presidentially-appointed members of the Committee must be satisfied of the suitability of each proposed service before deciding whether to add the service to the Procurement List. This includes ensuring that the nonprofit agency designated to perform the service is qualified and capable to meet Government quality standards and delivery schedule. After conducting its deliberative review, the Committee has concluded that the designated nonprofit agency can safely and efficiently perform the service while meeting the Government standards and delivery schedule. The Committee is aware that the designated nonprofit agency currently performs other fleet maintenance services for the contracting activity at another location.

Finally, the Committee is aware that service projects added to the Procurement List preclude other entities from competing for the work. However, the Committee is responsible to implement the Government's policy of increasing employment opportunities for people who are blind or significantly disabled. By doing so, the Committee realizes that this service will not be available to be procured through competitive means. After fully considering all appropriate information, including the comments, the Committee is adding the service to the Procurement List.

Deletions

On 8/15/2014 (79 FR48126-48127), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing a small entity to furnish the products to the Government.

3. There are no known regulatory alternatives which would accomplish the objectives of the Javits-Wagner-O'Day Act (41 U.S.C. 8501-8506) in connection with the products deleted from the Procurement List.

End of Certification

Accordingly, the following products are deleted from the Procurement List:

Products:

Computer Accessories

NSN: 6150-00-NIB-0005

NSN: 6150-00-NIB-0006

NPA: Wiscraft, Inc., Milwaukee, WI

Contracting Activity: General Services Administration, New York, NY

Barry S. Lineback,
Director, Business Operations.

[FR Doc. 2014-22953 Filed 9-25-14; 8:45 am]

BILLING CODE 6353-01-P